DEPARTMENT OF THE INTERIOR

Fish and Wildlife Service

[FWS-R8-ES-2012-N146; FXES11130800000-123-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before July 23, 2012.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-66381A

Applicant: Paul T. Schwartz, Trabuco Canyon, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-66255A

Applicant: Roger K. Radd, Cornville, Arizona

The applicant requests a permit to take (monitor nests) the least Bell's vireo (Vireo bellii pusillus) in conjunction with surveys and population monitoring activities in San Diego, Orange, and Riverside Counties, California, for the purpose of enhancing the species' survival.

Permit No. TE-66266A

Applicant: San Diego State University, San Diego, California

The applicant requests a permit to remove and reduce to possession from lands under Federal jurisdiction the Chorizanthe orcuttiana (Orcutt's spineflower) in conjunction with floristic surveys and research activities on Naval Base Point Loma in San Diego County, California, for the purpose of enhancing the species' survival.

Permit No. TE-67397A

Applicant: Timothy W. Ricks, Las Vegas, Nevada

The applicant requests a permit to take (harass by survey) the southwestern willow flycatcher (Empidonax traillii extimus) and the Yuma clapper rail (Rallus longirostris yumanensis) in conjunction with surveys in Clark County, Nevada, for the purpose of enhancing the species' survival.

Permit No. TE-67390A

Applicant: Benjamin J. Smith, Mission Viejo, California

The applicant requests a permit to take (harass by survey) the southwestern willow flycatcher (Empidonax traillii extimus) in conjunction with surveys throughout the range of the species in California for the purpose of enhancing the species' survival.

Permit No. TE-007520

Applicant: Julie A. Simonsen, San Diego, California

The applicant requests an amendment to a permit to take (harass by survey) the Casey's June beetle (Dinacoma caseyi) in conjunction with survey activities throughout the range of the species in California for the purpose of enhancing the species' survival.

Permit No. TE-007581

Applicant: Tito A. Marchant, San Diego, California

The applicant requests an amendment to a permit to take (harass by survey) the Casey's June beetle (Dinacoma caseyi) in conjunction with survey activities throughout the range of the species in California for the purpose of enhancing the species' survival.

Permit No. TE-67570A

Applicant: Brett A. Hanshew, Oakland, California

The applicant requests a permit to take (survey, capture, handle, mark, take biological samples, translocate and release) the San Francisco garter snake (Thamnophis sirtalis tetrataenia) in conjunction with survey activities throughout the range of the species in California for the purpose of enhancing the species' survival.

Permit No. TE-67583A

Applicant: Jessie D. Golding, Oakland, California

The applicant requests a permit to take (survey, capture, handle, and release) the California tiger salamander (Ambystoma californiense) in conjunction with survey and annual monitoring activities on State Park lands throughout the range of the species in California for the purpose of enhancing the species' survival.

Permit No. TE-820658

Applicant: Paul J. Galvin, Irvine, California

The applicant requests an amendment to a permit to take (harass by survey, locate and monitor nests) the light-footed clapper rail (Rallus longirostris levipes), Yuma clapper rail (Rallus longirostris yumanensis), and California clapper rail (Rallus longirostris obsoletus) in conjunction with surveys and population monitoring activities throughout the range of each species in California, Nevada, and Arizona, for the purpose of enhancing the species' survival.

Permit No. TE-816187

Applicant: David G. Cook, Santa Rosa, California

The applicant requests an amendment to a permit to take (survey, capture, handle, and release) the California tiger salamander (Ambystoma californiense) in conjunction with conducting focused training workshops throughout the range of the species in California for the purpose of enhancing the species' survival.

Permit No. TE-72050A

Applicant: Henry M. Page, Santa Barbara, California

The applicant requests a permit to take (survey, capture, handle, and release) the tidewater goby (Eucyclogobius newberryi) in conjunction with surveys and fish density studies within Naval Base Ventura, in Ventura County, California, for the purpose of enhancing the species' survival.

Permit No. TE-787716

Applicant: Scott B. Tremor, San Diego, California

The applicant requests an amendment to a permit to take (capture, handle, and release) the Stephens' kangaroo rat (Dipodomys stephensi) and San Bernardino kangaroo rat (Dipodomys merriami parvus) in conjunction with surveys and population monitoring activities throughout the range of each species in California for the purpose of enhancing the species' survival.

Permit No. TE-72044A

Applicant: Carl A. Demetropoulos, Thousand Oaks, California

The applicant requests a permit to take (survey, capture, handle, relocate, and release) the unarmored threespine stickleback (Gasterosteus aculeatus williamsoni) in conjunction with survey activities and population studies throughout the range of the species in California for the purpose of enhancing the species' survival.

Permit No. TE-068189

Applicant: Archaeological Consulting Services, Tempe, Arizona

The applicant requests an amendment to a permit to take (harass by survey) the southwestern willow flycatcher (Empidonax traillii extimus) and the Yuma clapper rail (Rallus longirostris yumanensis) in conjunction with surveys in Nevada for the purpose of enhancing the species' survival.

Permit No. TE-039571

Applicant: Kenneth Burton, Arcata, California

The applicant requests an amendment to a permit to take (harass by survey) the southwestern willow flycatcher (Empidonax traillii extimus) in conjunction with surveys throughout the range of the species in California and Nevada for the purpose of enhancing the species' survival.

Permit No. TE-237061

Applicant: Daniel A. Chase, San Francisco, California

The applicant requests an amendment to take (capture, handle, collect, and sacrifice) the tidewater goby (Eucyclogobius newberryi) in conjunction with competition, stress, and hormone level research throughout the range of the species in Sonoma and Marin Counties, California, for the purpose of enhancing the species' survival.

Permit No. TE-73366A

Applicant: Michael L. Treglia, College Station, Texas

The applicant requests a permit to take (survey, capture, handle, and release) the arroyo toad (=arroyo southwestern) (Anaxyrus californicus (Bufo microscaphus c.)) in conjunction with survey and annual monitoring activities in Orange, Riverside, and San Diego Counties, California, for the purpose of enhancing the species' survival.

Permit No. TE-74630A

Applicant: Marc G. Beccio, Colfax, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-74785A

Applicant: Barry S. Nerhus, Costa Mesa, California

The applicant requests a permit to take (harass by survey, locate and monitor nests) the light-footed clapper rail (Rallus longirostris levipes) in conjunction with surveys and population monitoring activities throughout the range of the species in California for the purpose of enhancing the species' survival.

Permit No. TE-17841A

Applicant: Michelle A. Bates, Santa Barbara, California

The applicant requests a permit to take (survey, locate and monitor nests) the California least tern (Sterna antillarum browni) in conjunction with survey and population monitoring activities throughout the range of the species in California for the purpose of enhancing the species' survival.

Permit No. TE-036499

Applicant: Golden Gate National Recreation Area, San Francisco, California

The applicant requests an amendment to an existing permit to take (survey, capture, handle, photograph, mark, take biological samples, translocate, and release) the San Francisco garter snake (Thamnophis sirtalis tetrataenia), take (survey, restore habitat, collect, transport, and release) the Mission blue butterfly (Icaricia icarioides missionensis) and San Bruno elfin butterfly (Callophrys mossii bayensis), and to remove and remove to possession from lands under Federal jurisdiction the Potentilla hickmanii (Hickman's potentilla) and Arenaria paludicola (Marsh sandwort) in conjunction with survey, population monitoring, and restoration activities within the boundaries of the Golden Gate National Recreation Area in San Mateo County, California, for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Regional Director, Region 8, Sacramento, California.

[FR Doc. 2012-15391 Filed 6-21-12; 8:45 am]

BILLING CODE 4310-55-P